DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 24, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Servicing Minor Program Loans.

OMB Control Number: 0560-0230.

Summary of Collection: Section 331(b) of the Consolidated Farm and Rural Development Act (CONACT, 7 U.S.C. 1981(b)), in part, authorizes the Secretary of Agriculture to modify, subordinate and release terms of security instruments, leases, contracts, and agreements entered by FSA. The section also authorizes transfers of security property, as the Secretary deems necessary, to carry out the purpose of the loan or protect the Government's financial interest. Section 335 of the CONACT (7 U.S.C. 1985) provides servicing authority for real estate security, operation or lease of realty, disposition of property, conveyance of real property interest of the United States, easements, and condemnations. There are no changes to burden hours in the request. FSA announced 2 new forms may be needed for them to complete potential minor program servicing requests but no anticipated increase or decrease in usage for loans serviced under this program is expected.

Need and Use of the Information: FSA will collect information related to a program benefit recipient or loan borrower requesting action on security they own, which was purchased with FSA loan funds, improved with FSA loan funds or has otherwise been mortgaged to FSA to secure a government loan. The information collected is primarily financial data, such as borrower's asset values, current financial information and public use and employment data. The information collection will be used solely by the Farm Loan Programs in FSA. Failure to obtain this information at the time of the request for servicing will result in rejection of the borrower's request.

Description of Respondents: Farms; Individuals or households; Business or other-for-profit; Not-for-profit institutions; State. Local and Tribal Government.

Number of Respondents: 58.

Frequency of Responses: Reporting: On occasion; Annually.

Total Burden Hours: 37.

Farm Service Agency

Title: 7 CFR 765, Direct Loan Servicing—Regular.

OMB Control Number: 0560-0236.

Summary of Collection: FSA's Farm Loan Programs (FLP) provide loans to family farmers to purchase real estate and equipment, and finance agricultural production. Direct Loan Servicing—Regular, as specified in 7 CFR part 765, provides the requirements related to regular and routine servicing actions associated with direct loans. FSA is required to actively supervise its borrowers and provide credit counseling, management advice and financial guidance. Additionally, FSA must document that credit is not available to the borrower from commercial credit sources for borrowers to maintain eligibility for assistance. Information collections established in the regulation are necessary for FSA to monitor and account for loan security, including proceeds derived from the sale of security, and to process a borrower's request for subordination, partial release of security, or consent. Borrowers are required to provide financial information to determine graduation eligibility based on commercial lender standards provided to FSA.

FSA is retiring form FSA-2060 “Application for Partial Release, Subordination (Real or Personal), or Consent”. The form FSA-2061 “Application for Partial Release or Consent,” and form FSA-2062 “Application for Subordination of Security for Commercial Credit” are new forms; both new forms captured the information previously requested on the FSA-2001 and FSA-2060 that will replace the FSA-2060 and eliminating the need for FSA-2001 for regular and routine servicing requests.

Need and Use of the Information: Information requested under this collection is submitted by borrowers to the local agency office serving the county in which their business is headquartered. The information is used by FLP to manage application of proceeds from the sale of agency security, consider whether a borrower is in compliance with their loan covenants, assist the borrower in achieving their business goals, conduct day-to-day management of the agency's loan portfolio, and ensure that the agency's interests are protected. Failure to collect the information or collecting it less frequently could result in the failure of the farm operation or loss of agency security property or position.

Description of Respondents: Business or other for-profit; farms.

Number of Respondents: 94,768.

Frequency of Responses: Reporting: On occasion; annually.

Total Burden Hours: 30,638.

Ruth Brown,
Departmental Information Collection Clearance Officer.

[FR Doc. 2023-15640 Filed 7-24-23; 8:45 am]

BILLING CODE 3410-05-P